DEPARTMENT OF DEFENSE

Office of the Secretary

[Docket ID DOD-2010-HA-0177]

Proposed Collection; Comment Request

AGENCY: Office of the Assistant Secretary of Defense for Health Affairs, DoD.

ACTION: Notice.

SUMMARY: In compliance with Section 3506(c)(2)(A) of the Paperwork Reduction Act of 1995, the Naval Health Research Center (NHRC), Department of the Navy, announces a new proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 25, 2011.

ADDRESSES: You may submit comments, identified by docket number and title, by any of the following methods:

• Federal eRulemaking Portal: http://www.regulations.gov. Follow the instructions for submitting comments.

• Mail: Federal Docket Management System Office, Room 3C843, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to: Commanding Officer, Naval Health Research Center, ATTN: Michael Galarneau, MS, NREMT, Code 161, 140 Sylvester Road, San Diego, CA 92106, or call at (619) 553-841 (this is not a toll-free number).

Title; Associated Form; and OMB Number: Traumatic Brain Injury, Post-Traumatic Stress Disorder, and Long-Term Quality of Life Outcomes in Injured Tri-Service U.S. Military Personnel; OMB Control Number 0720-TBD.

Needs and Uses: The information collection requirement is necessary for the Naval Health Research Center (NHRC) to carry out the research study it has been tasked to perform. This research study will assess the long-term health impact of injury on quality of life outcomes in injured tri-service U.S. military personnel, with a special focus on the effects of traumatic brain injury (TBI) and Post-traumatic Stress Disorder (PTSD).

Information collected will be used to investigate the long-term effects of injury, TBI, and PTSD on the overall physical and psychological health of military personnel injured in overseas contingency operations. Participants will respond to a health-related questionnaire bi-annually for three to six years. Respondents to this study will include both active-duty and separated members of all branches of the U.S. Armed Forces that have been injured and that have indicated a desire to participate through an Institutional Review Board (IRB)-approved informed consent process.

Affected Public: Current and former members of the U.S. Armed Forces that have been injured in overseas contingency operations and that have indicated a desire to participate.

Annual Burden Hours: 3,065 hours.

Number of Respondents: Approx. 4,644.

Responses per Respondent: 2.

Average Burden per Response: 20 minutes.

Frequency: Bi-annual.

SUPPLEMENTARY INFORMATION:

Summary of Information Collection

This information collection is necessary for the Naval Health Research Center (NHRC) to carry out the research study “TRAUMATIC BRAIN INJURY, POST-TRAUMATIC STRESS DISORDER, AND LONG-TERM QUALITY OF LIFE OUTCOMES IN INJURED TRI-SERVICE U.S. MILITARY PERSONNEL.” NHRC has been tasked by the office of Congressionally Directed Medical Research Programs (CDMRP) to conduct this longitudinal epidemiological study. The NHRC team will collect information about physical and psychological health from members of the U.S. Armed Forces that have been injured in overseas contingency operations by administering a voluntary web, phone, or mail survey bi-annually for a period of three (3) to six (6) years. In all cases, informed consent will be obtained prior to survey administration. The information collected will be used to ascertain the long-term effects of traumatic brain injury (TBI), Post-traumatic Stress Disorder (PTSD), and other injuries on quality of life outcomes. Pinpointing the effects of these injuries will allow for the development of more effective treatments and early interventions in the management of TBI, PTSD, and other injuries sustained by U.S. military personnel in overseas contingency operations.

Dated: December 20, 2010.
Morgan F. Park,
Alternate OSD Federal Register Liaison Officer, Department of Defense.

[FR Doc. 2010-32392 Filed 12-23-10; 8:45 am]

BILLING CODE 5001-06-P